NUCLEAR REGULATORY COMMISSION

10 CFR Parts 30, 40, and 70

[NRC-2022-0103]

RIN 3150-AK83

Radioactive Source Security and Accountability

AGENCY: Nuclear Regulatory Commission.

ACTION: Discontinuation of rulemaking activity.

SUMMARY: The U.S. Nuclear Regulatory Commission (NRC) is discontinuing the rulemaking activity, “Radioactive Source Security and Accountability.” The purpose of this document is to inform members of the public that this rulemaking activity is being discontinued and to provide a brief discussion of the NRC's decision to discontinue the rulemaking. The rulemaking activity will no longer be reported in the NRC's portion of the Unified Agenda of Regulatory and Deregulatory Actions (the Unified Agenda).

DATES: Effective April 2, 2024, the rulemaking activity discussed in this document is discontinued.

ADDRESSES: Please refer to Docket ID NRC-2022-0103 when contacting the NRC about the availability of information for this action. You may obtain publicly available information related to this action by any of the following methods:

• Federal Rulemaking Website: Go to https://www.regulations.gov and search for Docket ID NRC-2022-0103. Address questions about NRC dockets to Helen Chang; telephone: 301-415-3228; email: Helen.Chang@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if that document is available in ADAMS) is provided the first time that it is referenced in the SUPPLEMENTARY INFORMATION section.

• NRC's PDR: The PDR, where you may examine and order copies of publicly available documents, is open by appointment. To make an appointment to visit the PDR, please send an email to PDR.Resource@nrc.gov or call 1-800-397-4209 or 301-415-4737, between 8 a.m. and 4 p.m. Eastern Time, Monday through Friday, except Federal holidays.

FOR FURTHER INFORMATION CONTACT: Andrew Carrera, Office of Nuclear Material Safety and Safeguards; telephone: 301-415-1078; email: Andrew.Carrera@nrc.gov; or Anita Gray, Office of Nuclear Material Safety and Safeguards; telephone: 301-415-7036; email: Anita.Gray@nrc.gov. Both are staff of the U.S. Nuclear Regulatory Commission, Washington, DC 20555-0001.

SUPPLEMENTARY INFORMATION:

I. Background

In SECY-22-0112, “Proposed Rule: Radioactive Source Security and Accountability (3150-AK83; NRC-2022-0103),” dated December 19, 2022 (ADAMS Accession No. ML22278A035), the NRC staff provided the Commission a proposed rule for approval. The proposed rule would have amended regulations in parts 30, 40, and 70 of title 10 of the Code of Federal Regulations to further ensure validity of license applicants. The proposed rule also would have required licensees transferring category 3 quantities of radioactive material to verify licenses through the NRC License Verification System or by contacting the license-issuing authority to confirm that the recipient licensee is authorized to receive the type, form, and quantity of radioactive material to be transferred. Additionally, the proposed rule would have required that generally licensed devices containing category 3 quantities of byproduct material could only be transferred to licensees possessing a specific NRC or Agreement State license. The proposed rule also would have updated the oral certification method and removed an obsolete method of obtaining other sources of information.

II. Discussion

In the staff requirements memorandum (SRM) for SECY-22-0112, “Staff Requirements—SECY-22-0112—Proposed Rule: Radioactive Source Security and Accountability (3150-AK83; NRC-2022-0103),” dated March 8, 2024, (ADAMS Accession No. ML24068A046), the Commission stated that it was “unable to reach a decision on the staff's recommended proposed rule on radioactive source security and accountability that would amend regulations in title 10 of the Code of Federal Regulations to further ensure validity of license applicants. Therefore, the proposed rule is not approved.” As directed by the Commission in SRM-SECY-22-0112, the NRC will be exploring other rulemaking pathways to update the oral certification method and remove the obsolete method of obtaining other sources of information.

III. Conclusion

The NRC is discontinuing the Radioactive Source Security and Accountability rulemaking. In the next edition of the Unified Agenda, the NRC will update the entry for this rulemaking activity and reference this document to indicate that the rulemaking activity is no longer being pursued. This rulemaking activity will appear in the completed actions section of that edition of the Unified Agenda but will not appear in future editions. If the NRC decides to pursue similar or related rulemaking activities in the future, it will inform the public through new rulemaking entries in the Unified Agenda.

Dated: March 27, 2024.
For the Nuclear Regulatory Commission.
Carrie Safford,
Secretary of the Commission.

[FR Doc. 2024-06828 Filed 4-1-24; 8:45 am]

BILLING CODE 7590-01-P